Proclamation 10527 of February 28, 2023

Women's History Month, 2023

By the President of the United States of America

A Proclamation

During Women's History Month, we celebrate the countless women who have fought tirelessly and courageously for equality, justice, and opportunity in our Nation. We also reaffirm our commitment to advancing rights and opportunities for women and girls in the United States and around the world. We are mindful that we are building on the legacy of both recognized trailblazers and unsung heroines who have guided the course of American history and continue to shape its future.

The full participation of women is a foundational tenet of democracy. Women—often women of color—have been on the frontlines, fighting for and securing equal rights and opportunity throughout our country's history as abolitionists, civil rights leaders, suffragists, and labor activists. Women continue to lead as advocates for reproductive rights, champions of racial justice, and LGBTQI+ equality. Throughout history, these women have opened the doors of opportunity for subsequent generations of dreamers and doers. As community leaders, educators, doctors, scientists, child care providers, and more, women power our economy and lead our Nation. As first responders and service members, they stand watch over our lives and liberties. As innovators, entrepreneurs, and essential workers in every industry, they represent the very best of America.

But despite significant progress, women and girls continue to face systemic barriers to full and equal participation in our economy and society. Last year, the Supreme Court overturned Roe v. Wade, stripping away a constitutional right from the American people and the ability of millions of women to make decisions about their own bodies, putting their health and lives at risk. Disparities persist in economic security, health care, and caregiving responsibilities, especially for women and girls of color. Those who perform critical work, including those who care for our children and our families, are too often overlooked, underpaid, and undervalued.

Ours is the only Nation in the world established upon a profound but simple idea—that all people are created equal. My Administration is committed to upholding that idea and to making its promise real for every American. That is why I created the Gender Policy Council to advance gender equity and equality across the Federal Government. It is why I released the first-ever national gender strategy to promote the rights and opportunities of women at home and abroad, which outlines my Administration's commitment to equal access to education, economic security for women and families, health care, and freedom from gender-based violence. As we implement the Bipartisan Infrastructure Law, the CHIPS and Science Act, and the Inflation Reduction Act, we are working to reduce barriers so that women can access new jobs in sectors where they have been historically underrepresented. I have signed historic legislation to ensure equal protection for pregnant women and nursing mothers in the workplace. And I strengthened and reauthorized the Violence Against Women Act, a major milestone in our ongoing efforts to ensure all people can live free from violence. Finally, in December 2022, I was proud to sign the Respect for Marriage Act and defend the rights of LGBTQI+ and interracial couples.

My Administration will continue to defend reproductive freedom to ensure that all Americans—regardless of their gender, race, ethnicity, sexual orientation, gender identity, or income—have the ability to make the choices that are right for themselves and their families. I have taken executive action to safeguard access to reproductive care, including medication abortion, help ensure women can receive emergency medical care, protect patients' privacy and access to accurate information about their reproductive rights, and combat discrimination in the health care system. I continue to call on the Congress to pass a Federal law restoring the protections of Roe v. Wade so all women in every State have the right to choose. And my Administration released the first Blueprint for Addressing the Maternal Health Crisis to save lives and address systemic discrimination that many women face every day in our health care system, including women of color, women in rural communities, and women with disabilities.

Leading our efforts is the most diverse group of women at the highest levels of Government in United States history, including Vice President Kamala Harris and a record number of female cabinet secretaries. Together with the most diverse set of judges ever nominated to the Federal bench—including Supreme Court Justice Ketanji Brown Jackson—women are seated at every table where decisions are being made.

This month, as we continue our work to advance gender equity and equality, let us celebrate the contributions of women throughout our history and honor the stories that have too often gone untold. Let us recognize that fundamental freedoms are interconnected: when opportunities for women are withheld, we all suffer; and when women's lives are improved, we all gain. Let us strive to create a Nation where every woman and girl knows that her possibilities know no bounds in America.

NOW, THEREFORE, I, JOSEPH R. BIDEN JR., President of the United States of America, by virtue of the authority vested in me by the Constitution and the laws of the United States, do hereby proclaim March 2023 as Women's History Month. I call upon all Americans to observe this month and to celebrate International Women's Day on March 8, 2023, with appropriate programs, ceremonies, and activities. I also invite all Americans to visit WomensHistoryMonth.gov to learn more about the vital contribution of women to our Nation's history.

IN WITNESS WHEREOF, I have hereunto set my hand this twenty-eighth day of February, in the year of our Lord two thousand twenty-three, and of the Independence of the United States of America the two hundred and forty-seventh.

[FR Doc. 2023-04547

Filed 3-2-23; 8:45 am]

Billing code 3395-F3-P